DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on February 20, 2025. See Supplementary Information for relevant dates.

FOR FURTHER INFORMATION CONTACT: OFAC: Associate Director for Global Targeting, 202-622-2420; Assistant Director for Licensing, 202-622-2480; Assistant Director for Sanctions Compliance & Evaluation, 202-622-2490 or https://ofac.treasury.gov/contact-ofac.

SUPPLEMENTARY INFORMATION:

Electronic Availability

The SDN List and additional information concerning OFAC sanctions programs are available on OFAC's website: https://ofac.treasury.gov.

Notice of OFAC Actions

On February 20, 2025, OFAC determined that the property and interests in property subject to U.S. jurisdiction of the following persons are blocked under the relevant sanctions authorities listed below.

Individuals

1. KABAREBE, James, Rwanda; DOB 23 Dec 1959; POB Rwanda; alt. POB Uganda; nationality Rwanda; Gender Male; Passport PD101127 (Rwanda) expires 01 Jul 2027; alt. Passport PD101374 (Rwanda) expires 14 Nov 2028; alt. Passport RW01119 (Rwanda) (individual) [DRCONGO].

Designated pursuant to section 1(a)(ii)(C)(1) of Executive Order (E.O.) 13413 of October 27, 2006, “Blocking Property of Certain Persons Contributing to the Conflict in the Democratic Republic of the Congo,” as amended by E.O. 13671 of July 8, 2014, “Taking Additional Steps To Address the National Emergency With Respect to the Conflict in the Democratic Republic of the Congo” (E.O. 13413, as amended) for being responsible for or complicit in, or to have engaged in, directly or indirectly, actions or policies that threaten the peace, security, or stability of the Democratic Republic of the Congo.

2. KINGSTON, Lawrence Kanyuka (a.k.a. KANYUKA, Lawrence Kingston), North Kivu, Congo, Democratic Republic of the; 12 Rue Chevalier, Saint-Maur-des-Fosses 94210, France; 66 Cranberry Lane, London E16 4PE, United Kingdom; 27 Old Gloucester Street, London WC1N 3AX, United Kingdom; DOB 19 Jul 1970; POB Kinshasa, Congo, Democratic Republic of the; nationality Congo, Democratic Republic of the; alt. nationality United Kingdom; Gender Male; Passport 518058784 (United Kingdom) expires 10 Jul 2024 (individual) [DRCONGO] (Linked To: M23).

Designated pursuant to section 1(a)(ii)(G) of E.O. 13413 as amended, for having acted or purported to act for or on behalf of, directly or indirectly, M23, an entity whose property and interests in property are blocked pursuant to E.O. 13413, as amended.

Entities

1. KINGSTON FRESH LTD, 27 Old Gloucester Street, London WC1N 3AX, United Kingdom; Organization Established Date 05 Oct 2016; Organization Type: Other food service activities; Company Number 10410781 (United Kingdom) [DRCONGO] (Linked To: KINGSTON, Lawrence Kanyuka).

Designated pursuant to section 1(a)(ii)(G) of E.O. 13413, as amended, for being owned or controlled by, directly or indirectly, Lawrence Kanyuka Kingston, a person whose property and interests in property are blocked pursuant to E.O. 13413, as amended.

2. KINGSTON HOLDING, 229 Rue Saint Honore, Paris, Ile-de-France 75001, France; website https://kingstonholding.com; Organization Established Date 25 Aug 2017; Organization Type: Other business support service activities n.e.c.; Business Registration Number 831709902 (France) [DRCONGO] (Linked To: KINGSTON, Lawrence Kanyuka).

Designated pursuant to section 1(a)(ii)(G) of E.O. 13413, as amended, for being owned or controlled by, directly or indirectly, Lawrence Kanyuka Kingston, a person whose property and interests in property are blocked pursuant to E.O. 13413, as amended.

Lisa M. Palluconi,
Acting Director, Office of Foreign Assets Control

[FR Doc. 2025-03166 Filed 2-26-25; 8:45 am]

BILLING CODE 4810-AL-P